DEPARTMENT OF ENERGY

Agency Information Collection Extension

AGENCY: U.S. Department of Energy.

ACTION: Notice of request for comments.

SUMMARY: The Department of Energy (DOE), pursuant to the Paperwork Reduction Act of 1995, intends to extend for three years, an information collection request with the Office of Management and Budget (OMB). The collection of information relates to applications under DOE's Advanced Technology Vehicles Manufacturing Incentive (ATVM) Program, OMB Control No. 1910-5137.

DATES: Comments regarding this information collection extension must be received on or before January 26, 2026. If you anticipate any difficulty in submitting comments within that period, contact the person listed in the FOR FURTHER INFORMATION CONTACT section as soon as possible.

ADDRESSES: Written comments may be sent to Uchechukwu “Emeka” Eze, 1000 Independence Avenue SW, Ste 4B-122, Washington, DC 20585-0121, telephone: (202) 586-1092, or by email at: LPO.IFR@hq.doe.gov.

FOR FURTHER INFORMATION CONTACT: Requests for additional information or copies of the information collection instrument and instructions should be directed to Uchechukwu “Emeka” Eze, telephone: (202) 586-1092, or by email at: LPO.IFR@hq.doe.gov.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5137;

(2) Information Collection Request Title: Application for Loans under the Advanced Technology Vehicles Manufacturing Incentive Program;

(3) Type of Review: Extension without change of a currently approved collection;

(4) Purpose: The ATVM Program is implemented pursuant to Section 136 of the Energy Independence and Security Act of 2007, as amended. 42 U.S.C. 17013. The ATVM Program provides loans to eligible applicants for projects that reequip, expand, or establish manufacturing facilities in the United States to produce qualified advanced technology vehicles, qualified components, or ultra efficient vehicles; and for associated engineering integration costs. DOE set forth regulations at 10 CFR part 611 to implement the ATVM Program, and established application requirements. This information collection request covers the information necessary to evaluate those applications. The collected information will be used to analyze whether an applicant and its project is eligible for a loan under the ATVM Program. The collection of this information is critical to ensure that the government has sufficient information to determine whether applicants meet the eligibility requirements to qualify for an ATVM loan and to provide DOE with sufficient information to evaluate an applicant's project using the criteria specified in 10 CFR part 611;

(5) Annual Estimated Number of Respondents: 20;

(6) Annual Estimated Number of Total Responses: 20;

(7) Annual Estimated Number of Burden Hours: 132.5;

(8) Annual Estimated Reporting and Recordkeeping Cost Burden: $33,711.

Statutory Authority: Section 136 of the Energy Independence and Security Act of 2007 (Pub. L. 110-140), as amended (and codified at 42 U.S.C. 17013(d)(2)).

Signing Authority

This document of the Department of Energy was signed on November 21, 2025, by Gregory Beard, Senior Advisor, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 24, 2025.
Jennifer Hartzell,
Alternate Federal Register Liaison Officer, U.S. Department of Energy.

[FR Doc. 2025-21211 Filed 11-25-25; 8:45 am]

BILLING CODE 6450-01-P